DEPARTMENT OF COMMERCE

National Oceanic and Atmospheric Administration

[RTID 0648-XD340]

Gulf of Mexico Fishery Management Council; Public Meeting

AGENCY: National Marine Fisheries Service (NMFS), National Oceanic and Atmospheric Administration (NOAA), Commerce.

ACTION: Notice of a public meeting.

SUMMARY: The Gulf of Mexico Fishery Management Council (Council) will hold a one-day meeting of its Reef Fish Advisory Panel (AP).

DATES: The meeting will be held Monday, October 2, 2023, from 8:30 a.m. to 5 p.m., EDT.

ADDRESSES: The in-person meeting will take place at the Gulf Council office.

Council address: Gulf of Mexico Fishery Management Council, 4107 W Spruce Street, Suite 200, Tampa, FL 33607; telephone: (813) 348-1630.

FOR FURTHER INFORMATION CONTACT: Mr. Ryan Rindone, Lead Fishery Biologist, Gulf of Mexico Fishery Management Council; ryan.rindone@gulfcouncil.org, telephone: (813) 348-1630.

SUPPLEMENTARY INFORMATION:

Monday, October 2, 2023; 8:30 a.m.-5:30 p.m., EST

The meeting will begin with Introductions of Members and Adoption of Agenda, Approval of Minutes from the October 11, 2022, meeting, election of the Chair and Vice Chair, review the Scope of Work, and Reef Fish and Individual Fishing Quota (IFQ) Program Landings.

The AP will then receive an update on the Marine Recreational Information Program—Fishing Effort Survey (MRIP-FES) Pilot Study and Proposed Next Steps, followed by a summary of the Gag Research Review from September 2023 Gulf Scientific and Statistical Committee (SSC) Meeting. The AP will then review the Gag Interim Analysis Health Check, followed by discussions on the Reef Fish Framework Action: Modifications to Gag and Black Grouper Recreational Retention Limits and Commercial Spawning Season Closure. The AP will receive a brief update on Draft Amendment 58: Modifications to Shallow-water Grouper Complex Management Measures; and will then review interim analyses for Vermilion Snapper and Lane Snapper.

Next, the AP will review Draft Snapper Grouper Amendment 44/Reef Fish Amendment 55: Catch Level Adjustments and Allocations for Southeastern U.S. Yellowtail Snapper, and then discuss the Draft Generic Amendment for Regulatory Streamlining; the AP will then receive Public Comment.

Lastly, the AP will discuss any Other Business items.

—Meeting Adjourns

The meeting will also be broadcast via webinar. You may register for the webinar by visiting www.gulfcouncil.org and clicking on the Advisory Panel meeting on the calendar. The Agenda is subject to change, and the latest version along with other meeting materials will be posted on www.gulfcouncil.org as they become available.

Although other non-emergency issues not on the agenda may come before the Advisory Panel for discussion, in accordance with the Magnuson-Stevens Fishery Conservation and Management Act, those issues may not be the subject of formal action during this meeting. Actions of the Advisory Panel will be restricted to those issues specifically identified in the agenda and any issues arising after publication of this notice that require emergency action under section 305(c) of the Magnuson-Stevens Fishery Conservation and Management Act, provided the public has been notified of the Council's intent to take action to address the emergency.

Special Accommodations

The meeting is physically accessible to people with disabilities. Requests for sign language interpretation or other auxiliary aid should be directed to Kathy Pereira, (813) 348-1630, at least 5 days prior to the meeting date.

Authority: 16 U.S.C. 1801 et seq.

Dated: September 11, 2023.
Diane M. DeJames-Daly,
Acting Deputy Director, Office of Sustainable Fisheries, National Marine Fisheries Service.

[FR Doc. 2023-19930 Filed 9-13-23; 8:45 am]

BILLING CODE 3510-22-P